DEPARTMENT OF HOMELAND SECURITY

U.S. Customs and Border Protection

[1651-0NEW]

Visitor Request Processing Systems (VRPS)

AGENCY: U.S. Customs and Border Protection (CBP), Department of Homeland Security.

ACTION: 60-Day notice and request for comments; this is a new collection of information.

SUMMARY: The Department of Homeland Security, U.S. Customs and Border Protection (CBP) will be submitting the following information collection request to the Office of Management and Budget (OMB) for review and approval in accordance with the Paperwork Reduction Act of 1995 (PRA). The information collection is published in the Federal Register to obtain comments from the public and affected agencies.

DATES: Comments are encouraged and must be submitted (no later than September 5, 2023) to be assured of consideration.

ADDRESSES: Written comments and/or suggestions regarding the item(s) contained in this notice must include the OMB Control Number 1651-0NEW in the subject line and the agency name. Please use the following method to submit comments:

Email. Submit comments to: CBP_PRA@cbp.dhs.gov.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, Telephone number 202-325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This process is conducted in accordance with 5 CFR 1320.8. Written comments and suggestions from the public and affected agencies should address one or more of the following four points: (1) whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Visitor Request Processing Systems.

OMB Number: 1651-0NEW.

Form Number: N/A.

Current Actions: New collection of information.

Type of Review: New collection of information.

Affected Public: Individuals.

Abstract: The Secretary of the Department of Homeland Security (DHS) is required to protect property owned, occupied, or secured by the Federal Government. See 40 U.S.C. 1315 and 41 CFR 102-81.25, which require Federal agencies to be responsible for maintaining security at their own or leased facilities. Part of adhering to this responsibility is vetting and accounting for visitors to government facilities. U.S. Customs and Border Protection (CBP) is establishing visitor request processing systems to facilitate the vetting and approval workflows for visitor requests to enter various CBP-controlled locations.

This generic clearance would allow CBP to collect visitor data from and on behalf of individuals requesting access to CBP-controlled facilities. Visitor request processing systems are intended to collect information and maintain records on both domestic and foreign national visitors to CBP facilities to protect agency facilities and personnel, as well as facilitating visitor vetting and documenting vetting results and approvals, according to DHS requirements.

Individuals subject to proposed collection are primarily:

• Members of the public, in many instances, with specific business at the facility (i.e., deliveries, repair/maintenance, drivers transporting other visitors, etc.)

• Contractor personnel

• Non-DHS/CBP federal, state, local and tribal government employees, or officials

• Foreign nationals, individually or as part of international delegations, requesting access to conduct a range of official business with DHS/CBP counterparts

• DHS/CBP personnel not assigned to the facility

Those individuals approved for access, are further evaluated for the type of access granted, escorted, unescorted, or staff-like access to CBP-controlled facilities. Information collected by CBP and entered into visitor request processing systems can include some data necessary for the adjudication of eligibility for facility access; however, only vetting/adjudication results may be contained in the visitor request processing system.

Type of Information Collection: Visitor Request Processing Systems.

Estimated Number of Respondents: 1,000,000.

Estimated Number of Annual Responses per Respondent: 1.

Estimated Number of Total Annual Responses: 1,000,000.

Estimated Time per Response: 10 minutes.

Estimated Total Annual Burden Hours: 166,667.

Dated: July 3, 2023.
Seth D. Renkema,
Branch Chief, Economic Impact Analysis Branch, U.S. Customs and Border Protection.

[FR Doc. 2023-14365 Filed 7-6-23; 8:45 am]

BILLING CODE P